DEPARTMENT OF JUSTICE

Drug Enforcement Administration

[Docket No. DEA-939]

Bulk Manufacturer of Controlled Substances Application: Curia Missouri Inc.

AGENCY: Drug Enforcement Administration, Justice.

ACTION: Notice of application.

SUMMARY: Curia Missouri Inc. has applied to be registered as a bulk manufacturer of basic class(es) of controlled substance(s). Refer to Supplemental Information listed below for further drug information.

DATES: Registered bulk manufacturers of the affected basic class(es), and applicants therefore, may file written comments on or objections to the issuance of the proposed registration on or before March 14, 2022. Such persons may also file a written request for a hearing on the application on or before March 14, 2022.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on August 19, 2021, Curia Missouri Inc., 2460 West Bennett Street, Springfield, Missouri 65807, applied to be registered as a bulk manufacturer of the following basic class(es) of controlled substance(s):

Controlled substance | Drug code | Schedule
Gamma Hydroxybutyric Acid | 2010 | I
Amphetamine | 1100 | II
Lisdexamphetamine | 1205 | II
Methylphenidate | 1724 | II
Phenylacetone | 8501 | II
Tapentadol | 9780 | II

The company plans to bulk manufacture the above-listed controlled substances in bulk for distribution to its customers. No other activities for these drug codes are authorized for this registration.

Brian S. Besser,
Acting Assistant Administrator.

[FR Doc. 2022-00325 Filed 1-10-22; 8:45 am]

BILLING CODE P